DEPARTMENT OF COMMERCE

National Oceanic and Atmospheric Administration

RIN: 0648-XX78

Public informational Scoping Meetings on the Management of Bottomfish Fishery Resources within the Exclusive Economic Zone of the Mariana Islands; Correction

AGENCY: Western Pacific Fishery Management Council (WPFMC), National Marine Fisheries Service (NMFS), National Oceanic and Atmospheric Administration (NOAA), Commerce.

ACTION: Notice of public informational scoping meetings; correction.

SUMMARY: The Western Pacific Fisheries Management Council (Council) will convene public informational scoping meetings in Guam and CNMI to solicit comments on the management of the bottomfish fishery within the EEZ of the Mariana Islands. The scope meeting will, among other things, describe the existing federal management regime for bottomfish species, examine the current performance of the fishery and consider the need for potential regulatory changes.

DATES: Public informational scoping meetings will be held in Saipan, Rota, and Tinian, CNMI on August 11, 2010 and in Guam on August 13, 2010. See SUPPLEMENTARY INFORMATION for specific dates, times, and locations.

ADDRESSES: Written comments on this issue may be sent to Kitty M. Simonds, Executive Director, Western Pacific Fishery Management Council, 1164 Bishop St., Suite 1400, Honolulu, HI 96813.

Comments may be sent to the Council via facsimile (fax) at (808) 522-8226.

FOR FURTHER INFORMATION CONTACT: Kitty M. Simonds, Executive Director, WPFMC; telephone: (808) 522-8220.

SUPPLEMENTARY INFORMATION:

Correction

At 75 FR 43491, Monday, July 26, 2010, the meeting location in Saipan, Commonwealth of the Northern Mariana Islands (CNMI) is changed from CNMI Multipurpose Building to Northern Marianas College Classroom D-1. Also, locations have been added in Rota and Tinian, CNMI and the times have been changed for all meetings.

Dates, Times, and Locations for Public Informational Scoping Meetings

1. Saipan, CNMI -- Wednesday, August 11, 2010, from 6 p.m. - 9 p.m. at the Northern Marianas College (NMC) Classroom D-1.

2. Rota, CNMI -- Wednesday, August 11, 2010, from 6 p.m. - 9 p.m. at the NMC Enhancement Room.

3. Tinian, CNMI -- Wednesday, August 11, 2010, from 6 p.m. - 9 p.m. at the NMC Enhancement Room.

4. Hagatna, Guam -- Friday, August 13, 2010, from 7 p.m. -9 p.m. at the Guam Fishermen's Cooperative.

Special Accommodations

These meetings are physically accessible to people with disabilities. Requests for sign language interpretation or other auxiliary aids should be directed to Kitty M. Simonds, (808) 522-8220 (voice) or (808) 522-8226 (fax), at least 5 days prior to the meeting date.

Authority: 16 U.S.C. 1801 et seq.

Dated: August 2, 2010.
Tracey L. Thompson,
Acting Director, Office of Sustainable Fisheries, National Marine Fisheries Service.

[FR Doc. 2010-19274 Filed 8-4-10; 8:45 am]

BILLING CODE 3510-22-S